DEPARTMENT OF ENERGY

Federal Energy Regulatory Commission

Combined Notice of Filings #1

Take notice that the Commission received the following electric corporate filings:

Docket Numbers: EC18-91-000.

Applicants: NextEra Energy Transmission Midatlantic, LLC.

Description: Amendment to May 7, 2018 Application [revised Exhibit M] for Authorization Under Section 203 of the Federal Power Act, et al. of NextEra Energy Transmission Midatlantic, LLC.

Filed Date: 9/7/18.

Accession Number: 20180907-5168.

Comments Due: 5 p.m. ET 9/14/18.

Docket Numbers: EC18-154-000.

Applicants: AL Solar A, LLC.

Description: Application for Authorization under Section 203 of the Federal Power Act, et al. of AL Solar A, LLC.

Filed Date: 9/10/18.

Accession Number: 20180910-5167.

Comments Due: 5 p.m. ET 10/1/18.

Take notice that the Commission received the following electric rate filings:

Docket Numbers: ER18-1213-000.

Applicants: Emera Maine, ISO New England Inc.

Description: Notification of September 10, 2018 Response to Deficiency Letter filing [in ER18-1244-002] of Emera Maine.

Filed Date: 9/10/18.

Accession Number: 20180910-5071.

Comments Due: 5 p.m. ET 10/1/18.

Docket Numbers: ER18-1695-000.

Applicants: Puget Sound Energy, Inc.

Description: Response of Puget Sound Energy, Inc. to August 10, 2018 Letter requesting additional information.

Filed Date: 9/10/18.

Accession Number: 20180910-5179.

Comments Due: 5 p.m. ET 10/1/18.

Docket Numbers: ER18-1770-001.

Applicants: ISO New England Inc.

Description: Tariff Amendment: ISO-NE; Docket No. ER18-1770-000, Response to August 9, 2018 Letter to be effective 8/10/2018.

Filed Date: 9/10/18.

Accession Number: 20180910-5126.

Comments Due: 5 p.m. ET 10/1/18.

Docket Numbers: ER18-2203-001.

Applicants: Upper Michigan Energy Resources Corporate.

Description: Tariff Amendment: Amendment to MBR Tariff Filing of UMERC to be effective 10/12/2018.

Filed Date: 9/11/18.

Accession Number: 20180911-5139.

Comments Due: 5 p.m. ET 10/2/18.

Docket Numbers: ER18-2406-000.

Applicants: Allegheny Energy Supply Company, LLC.

Description: Compliance filing: compliance 2018 to be effective 12/13/2017.

Filed Date: 9/10/18.

Accession Number: 20180910-5123.

Comments Due: 5 p.m. ET 10/1/18.

Docket Numbers: ER18-2407-000.

Applicants: DV Trading, LLC,DV Trading, LLC.

Description: Notice of Cancellation of MBR tariff of DV Trading, LLC.

Filed Date: 9/10/18.

Accession Number: 20180910-5156.

Comments Due: 5 p.m. ET 10/1/18.

Docket Numbers: ER18-2408-000.

Applicants: Deseret Generation & Transmission Co-operative, Inc.

Description: § 205(d) Rate Filing: 2018 RIA Annual Update to be effective 7/1/2018.

Filed Date: 9/11/18.

Accession Number: 20180911-5031.

Comments Due: 5 p.m. ET 10/2/18.

Docket Numbers: ER18-2409-000.

Applicants: RED-Rochester, LLC.

Description: Baseline eTariff Filing: MBR Application to be effective 11/1/2018.

Filed Date: 9/11/18.

Accession Number: 20180911-5067.

Comments Due: 5 p.m. ET 10/2/18.

Docket Numbers: ER18-2410-000.

Applicants: Public Service Company of Colorado.

Description: § 205(d) Rate Filing: 2018-09-xx_Att O-SPS TOIF TbLs 2-7-16-17 Sch 18 Filing to be effective 1/1/2019.

Filed Date: 9/11/18.

Accession Number: 20180911-5120.

Comments Due: 5 p.m. ET 10/2/18.

Docket Numbers: ER18-2411-000.

Applicants: Southern California Edison Company.

Description: § 205(d) Rate Filing: ED&P Letter Agreement DCR Transmission LLC—Ten West Link SA No. 213 to be effective 9/7/2018.

Filed Date: 9/11/18.

Accession Number: 20180911-5111.

Comments Due: 5 p.m. ET 10/2/18.

Docket Numbers: ER18-2412-000.

Applicants: Midcontinent Independent System Operator, Inc.

Description: § 205(d) Rate Filing: 2018-09-11_SA 3164 LA3 West Baton Rouge-Entergy Louisiana GIA (J683) to be effective 8/27/2018.

Filed Date: 9/11/18.

Accession Number: 20180911-5112.

Comments Due: 5 p.m. ET 10/2/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 11, 2018.
Nathaniel J. Davis, Sr.,
Deputy Secretary.

[FR Doc. 2018-20082 Filed 9-14-18; 8:45 am]

BILLING CODE 6717-01-P